DEPARTMENT OF ENERGY

[EERE-2020-BT-CRT-0018]

Agency Information Collection Extension

AGENCY: Office of Energy Efficiency and Renewable Energy, U.S. Department of Energy.

ACTION: Submission for Office of Management and Budget (OMB) review; comment request.

SUMMARY: The Department of Energy (DOE) has submitted an information collection request to the OMB for extension under the provisions of the Paperwork Reduction Act of 1995. The information collection requests a three-year extension of its Certification Reports, Compliance Statements, Application for a Test Procedure Waiver, and Recordkeeping for Consumer Products and Commercial/Industrial Equipment subject to Energy or Water Conservation Standards.

DATES: Comments regarding this collection must be received on or before March 19, 2021. If you anticipate that you will be submitting comments, but find it difficult to do so within the period of time allowed by this notice, please advise the OMB Desk Officer of your intention to make a submission as soon as possible. The Desk Officer may be telephoned at (202) 395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Catherine Rivest, U.S. Department of Energy, Office of Energy Efficiency and Renewable Energy, Building Technologies Office, EE-5B, 1000 Independence Avenue SW, Washington, DC 20585-0121. Telephone: (202) 586-7335. Email: ApplianceStandardsQuestions@ee.doe.gov.

Interested persons are encouraged to submit comments using the Federal eRulemaking Portal at http://www.regulations.gov. Follow the instructions for submitting comments. Alternatively, interested persons may submit comments, identified by docket number EERE-2020-BT-CRT-0018, by any of the following methods:

1. Federal eRulemaking Portal: http://www.regulations.gov. Follow the instructions for submitting comments.

2. Email: to InfoCollection2020CRT0018@ee.doe.gov. Include docket number EERE-2020-BT-CRT-0018 in the subject line of the message.

3. Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

4. Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at http://www.regulations.gov/#!docketDetail;D=EERE-2020-BT-CRT-0018. The docket web page will contain simple instructions on how to access all documents, including public comments, in the docket.

SUPPLEMENTARY INFORMATION: The Paperwork Reduction Act of 1995, as amended (PRA), 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.12. On November 23, 2020, DOE published a 60-day notice in the Federal Register soliciting comment on the information collection request for which it is now seeking OMB approval. See 85 FR 74713. The proposed collection would cover all covered products and equipment subject to DOE's regulatory requirements described in 10 CFR parts 429, 430, and 431. DOE received three comments in response to this notice, which are discussed in section I of this document.

I. Summary of Comments

DOE requested comments as to whether the proposed collection of information is necessary for the proper performance of the functions of the agency, including whether the information shall have practical utility. In response, the Air-Conditioning, Heating, and Refrigeration Institute (AHRI) and Carrier stated that performance data reporting is necessary and proper to ensure that manufacturers are complying with energy conservation standards. (AHRI, No. 2 at p. 2; Carrier No. 4 at p. 1)

AHRI stated that the scope of DOE's reporting requirements are at times overbroad, which creates unnecessary burden. AHRI pointed to the Central Air Conditioners and Heat Pump reporting template as an example of overcollection and noted that it includes many more fields than DOE publishes on its public Compliance Certification Management System (CCMS) database. AHRI asked that DOE exercise greater caution in developing its reporting requirements for covered products. AHRI noted that DOE should only collect information necessary to ensure compliance. (AHRI, No. 2 at p. 2) AHRI stated that most of the data DOE collects is considered confidential business information, and improper disclosure could significantly harm manufacturers. AHRI therefore requested that DOE restrict its data collection only to that which is necessary to demonstrate compliance. AHRI added that DOE should take appropriate measures to protect the confidential data in its possession and inform manufacturers of a breach immediately. (AHRI, No. 2 at p. 2)

DOE appreciates the feedback from AHRI. DOE notes that it aims to limit the collection of information implemented in the regulatory language to include only information necessary to ensure compliance with energy conservation standards. In its regulatory process, DOE outlines the certification requirements in a proposal and requests comment and input from stakeholders prior to finalizing those requirements. DOE is not considering amending its certification regulations as part of this notice. However, it will consider these comments in any future rulemakings that address certification requirements. DOE notes that access to CCMS is currently secured by password protection. All users are required to register with CCMS and establish usernames and passwords to access CCMS. CCMS complies with the system security standards for Federal systems established by the National Institute of Standards and Technology and set forth in NIST 800-53.

DOE requested comment on the accuracy of the agency's estimate of the burden of the proposed collection of information, including the validity of the methodology and assumptions used.

DOE received no comments regarding the accuracy of its burden of the information collection activities estimates. Therefore, DOE has not modified those estimates in this notice.

DOE requested comment on ways to enhance the quality, utility, and clarity of the information to be collected. DOE also requested comment on ways to minimize the burden of the collection of information on respondents, including through the use of automated collection techniques or other forms of information technology.

In response, AHRI commented that DOE is frequently late in releasing reporting templates which creates outsized and unnecessary burden on manufacturers and third-party certifiers. AHRI argued that the last-minute release of a template is unjustified as the Department knows the data it intends to collect when it promulgates a rule. AHRI asked that OMB decline DOE's data collection authorization unless DOE promulgates a regulation that requires the release of the reporting templates concurrent with the corresponding regulatory language in the Federal Register or at least 180 days before the template is effective if the change did not result from a rule change. AHRI added that the lack of adequate notice undermines due process and facially violates the principles of the Paperwork Reduction Act. AHRI asserted that DOE must release the templates contemporaneously with the final rule. AHRI argued that, upon publication of the final rule, because DOE has already decided what data it intends to collect, it should also be required to provide adequate notice of the format that it intends to use to collect the data so that stakeholders can respond accordingly (AHRI, No. 2 at p. 3-6)

AHRI commented that, although the reporting requirements for all new test procedures or energy conservation standards are presented in the Federal Register and Code of Federal Regulations, the format it is presented in is not useful to stakeholders. AHRI commented that the team of programmers they employ to manage their directory and to facilitate the regulatory reporting need a minimum of 3 months to write the necessary data transfer programs. AHRI added that they cannot begin work on the programming until they have received the final certification template. AHRI noted that DOE continues to deliver late templates despite AHRI having issued multiple requests, held meetings, and filed comments requesting a predictable deadline of at least six months to a year prior to the effective date of a standard.

AHRI expressed concern that the change of OMB control number rollout and other “effective immediately” templates are especially burdensome. AHRI noted that a template amendment as small as a change of an OMB control number requires re-coding and re-programming data maps and testing those changes. AHRI listed several instances in which they felt that the timeframe between certification template release and the required certification date was insufficient. AHRI commented that stakeholders must have an ability to plan workflows and predictably allocate resources to reporting. AHRI added that stakeholders cannot make business plans for regulatory compliance unless DOE is transparent and consistent in predictably delivering final reporting templates.

DOE appreciates the feedback from AHRI. DOE strives to make certification templates available in a timely manner and will work to post new or revised templates well in advance of certification deadlines. DOE notes that, in the past, AHRI generally has requested that DOE post certification templates six weeks prior to their required use. However, DOE notes that AHRI also requested six months in a comment on DOE's Procedures, Interpretations, and Policies for Consideration of New or Revised Energy Conservation Standards for Consumer Products rulemaking (AHRI, EERE-2017-BT-STD-0062, No. 51 at pg. 32). Going forward, DOE will make its best effort to release new product certification templates at least 180 days prior to their required use.

DOE explains that typically it does not require manufacturers to recertify on newly posted templates until the annual certification date unless manufacturers are required to do so in order to demonstrate compliance with amended standards. For example, DOE posted a template for automatic commercial ice makers on December 18, 2017. In the announcement DOE stated, “Submissions made on previous versions of the template do not have to be resubmitted until the August 1, 2018 annual certification date if they comply with the amended performance standards.” DOE notes that it explains the reason a new template is posted in its template announcement and email notification. DOE also notes the CCMS product-template download page maintains a newsfeed on the left side (See https://www.regulations.doe.gov/ccms/templates). Regarding the renewal of an OMB control number, DOE notes that this change does not trigger any changes to data maps and should only require updating of a filename in any code.

The American Lighting Association (ALA), Association of Home Appliance Manufacturers (AHAM), Hearth, Patio & Barbecue Association (HPBA), and the Information Technology Industry Council (ITI) (collectively, the Joint Commenters), AHRI, and Carrier all expressed strong support for the elimination of duplicative reporting requirements. (The Joint Commenters, No. 3 at p. 2; AHRI, No. 2 at p. 2; Carrier No. 4 at p. 1)

The Joint Commenters and AHRI each expressed support for DOE's proposal to add fields to CCMS that would allow the California Energy Commission (CEC) to accept CCMS reports in satisfaction of applicable state reporting requirements. (The Joint Commenters, No. 3 at p. 2; AHRI, No. 2 at p. 5) The Joint Commenters and AHRI went further to say they encourage the streamlining of regulatory reporting that DOE can achieve via its CCMS system including those imposed by Energy Star and Natural Resources Canada (NRCan). (The Joint Commenters, No. 3 at p. 2; AHRI, No. 2 at p. 2) The Joint Commenters noted that this action would be consistent with the Appliance Standards Rulemaking Advisory Committee (ASRAC) recommendation on reporting burden adopted by stakeholders from various points of view on December 5, 2019. (The Joint Commenters, No. 3 at pg. 2) AHRI went on to state that CCMS is a functional and well-maintained database and reporting system, which is better resourced and more reliable than state-run databases. AHRI noted that it has used available technology to facilitate mass uploads of data to CCMS, which has been able to accommodate this data transfer consistently and reliably. AHRI commented that streamlining and consolidating the CEC reporting requirements into CCMS in the same way that the Federal Trade Commission (FTC) reporting was previously addressed would be an unqualified benefit to stakeholders. (AHRI, No. 2 at p. 6)

DOE will continue to consider revisions to CCMS that would facilitate a reduction in duplicative reporting under California's Appliance Efficiency Regulations, as well as others.

The Joint Commenters expressed interest in further reducing regulatory burden by working with the Department to reevaluate the annual certification reporting requirement which results in unnecessary paperwork costs for no reason. The Joint Commenters noted that the ASRAC recommendation adopted by vote of stakeholders from varying points of view on December 5, 2019 also recommended that DOE harmonize its reporting scope with that of the FTC such that only basic models in current production be included in the reporting scope rather than DOE's current scope which indicates models being sold or offered for sale must be reported. The recommendation also urged DOE to eliminate annual reporting such that reporting would be required only when a model is added, removed, or changed in a way that changes energy use. (The Joint Commenters, No. 3 at p. 2)

DOE is not considering amending its regulations as part of this notice, however, it will consider these comments in any future rulemakings that address certification requirements.

This information collection request contains:

(1) OMB No.: 1910-1400;

(2) Information Collection Request Title: Certification Reports, Compliance Statements, Application for a Test Procedure Waiver, Application for Extension of Representation Requirements, Labeling, and Recordkeeping for Consumer Products and Commercial/Industrial Equipment subject to Federal Energy or Water Conservation Standards;

(3) Type of Request: Revision with changes;

(4) Purpose: Pursuant to the Energy Policy and Conservation Act, as amended (“EPCA” or “the Act”),¹ Public Law 94-163 (42 U.S.C. 6291-6317, as codified), DOE regulates the energy efficiency of a number of consumer products, and commercial and industrial equipment. Title III, Part B ² of EPCA established the Energy Conservation Program for Consumer Products Other Than Automobiles, which sets forth a variety of provisions designed to improve energy efficiency of covered consumer products (“covered products”). Title III, Part C ³ of EPCA, added by Public Law 95-619, Title IV, § 441(a), established the Energy Conservation Program for Certain Industrial Equipment, which sets forth a variety of provisions designed to improve energy efficiency of covered commercial and industrial equipment (collectively referred to as “covered equipment”).

¹ All references to EPCA in this document refer to the statute as amended through the Energy Act of 2020, Public Law 116-260 (Dec. 27, 2020).

² For editorial reasons, upon codification in the U.S. Code, Part B was redesignated Part A.

³ For editorial reasons, upon codification in the U.S. Code, Part C was redesignated Part A-1.

Covered products and covered equipment are described in 10 CFR parts 429, 430, and 431. These covered products and covered equipment, including all product or equipment classes, include: (1) Consumer refrigerators, refrigerator-freezers and freezers; (2) Room air conditioners; (3) Central air conditioners and central air conditioning heat pumps; (4) Consumer water heaters; (5) Consumer furnaces and boilers; (6) Dishwashers; (7) Residential clothes washers; (8) Clothes dryers; (9) Direct heating equipment; (10) Cooking products; (11) Pool heaters; (12) Television sets; (13) Fluorescent lamp ballasts; (14) General service fluorescent lamps, general service incandescent lamps, and incandescent reflector lamps; (15) Faucets; (16) Showerheads; (17) Water closets; (18) Urinals; (19) Ceiling fans; (20) Ceiling fan light kits; (21) Torchieres; (22) Compact fluorescent lamps; (23) Dehumidifiers; (24) External power supplies; (25) Battery chargers; (26) Candelabra base incandescent lamps and intermediate base incandescent lamps; (27) Commercial warm air furnaces; (28) Commercial refrigerators, freezers, and refrigerator-freezers; (29) Commercial heating and air conditioning equipment; (30) Commercial water heating equipment; (31) Automatic commercial ice makers; (32) Commercial clothes washers; (33) Distribution transformers; (34) Illuminated exit signs; (35) Traffic signal modules and pedestrian modules; (36) Commercial unit heaters; (37) Commercial pre-rinse spray valves; (38) Refrigerated bottled or canned beverage vending machines; (39) Walk-in coolers and walk-in freezers and certain components; (40) Metal halide lamp ballasts and fixtures (41) Integrated light-emitting diode lamps; (42) General service lamps; (43) Furnace fans; (44) Pumps; (45) Commercial packaged boilers; (46) Consumer miscellaneous refrigeration equipment; (47) Portable air conditioners; (48) Compressors; (49) Electric motors; (50) Small electric motors (51) Rough service lamps; and (52) Vibration service lamps.

Under EPCA, DOE's energy conservation program consists essentially of four parts: (1) Testing, (2) labeling, (3) Federal energy conservation standards, and (4) certification and enforcement procedures. For consumer products, relevant provisions of the Act specifically include definitions (42 U.S.C. 6291), energy conservation standards (42 U.S.C. 6295), test procedures (42 U.S.C. 6293), labeling provisions (42 U.S.C. 6294), and the authority to require information and reports from manufacturers (42 U.S.C. 6296). For covered equipment, relevant provisions of the Act include definitions (42 U.S.C. 6311), energy conservation standards (42 U.S.C. 6313), test procedures (42 U.S.C. 6314), labeling provisions (42 U.S.C. 6315), and the authority to require information and reports from manufacturers (42 U.S.C. 6316).

DOE is seeking to renew its information collection related to the following aspects of the appliance standards program: (1) Gathering data and submitting certification and compliance reports for each basic model distributed in commerce in the U.S. including supplemental testing instructions for certain commercial equipment; (2) maintaining records underlying the certified ratings for each basic model including test data and the associated calculations; (3) applications for a test procedure waiver, which manufacturers may elect to submit if they manufacture a basic model that cannot be tested pursuant to the DOE test procedure; (4) applications requesting an extension of the date by which representations must be made in accordance with any new or amended DOE test procedure; and (5) labeling.

DOE's certification and compliance activities ensure accurate and comprehensive information about the energy and water use characteristics of covered products and covered equipment sold in the United States. Manufacturers of all covered products and covered equipment must submit a certification report before a basic model is distributed in commerce, annually thereafter,⁴ and if the basic model is redesigned in such a manner to increase the consumption or decrease the efficiency of the basic model such that the certified rating is no longer supported by the test data. Additionally, manufacturers must report when production of a basic model has ceased and is no longer offered for sale as part of the next annual certification report following such cessation. DOE requires the manufacturer of any covered product or covered equipment to establish, maintain, and retain the records of certification reports, of the underlying test data for all certification testing, and of any other testing conducted to satisfy the requirements of part 429, part 430, and/or part 431. Certification reports provide DOE and consumers with comprehensive, up-to-date efficiency information and support effective enforcement.

⁴ With the exception of electric motors, and small electric motors.

As the result of a negotiated rulemaking, DOE adopted additional certification requirements for commercial HVAC, water heater, and refrigeration equipment. Specifically, DOE requires manufacturers of commercial refrigeration equipment and some types of commercial HVAC equipment to submit a PDF with specific testing instructions to be used by the Department during verification and enforcement testing. Manufacturers of commercial water heating equipment and some types of commercial HVAC equipment have the option of submitting a PDF with additional testing instructions at the manufacturer's discretion. For additional information on the negotiated rulemaking or supplemental testing instructions see docket number EERE-2013-BT-NOC-0023.

On December 18, 2014, Congress enacted the EPS Service Parts Act of 2014 (Pub. L. 113-263, “Service Parts Act”). That law exempted manufacturers of certain external power supplies (“EPSs”) that were made available as service and spare parts for end-use products manufactured before February 10, 2016, from the energy conservation standards that DOE promulgated in its February 2014 rule. See 79 FR 7846 (Feb. 10, 2014). Additionally, the Service Parts Act permits DOE to require manufacturers of an EPS that is exempt from the 2016 standards to report to DOE the total number of such EPS units that are shipped annually as service and spare parts and that do not meet those standards. (42 U.S.C. 6295(u)(5)(A)(ii)) DOE may also limit the applicability of the exemption if the Secretary determines that the exemption is resulting in a significant reduction of the energy savings that would result in the absence of the exemption. (42 U.S.C. 6295(u)(5)(A)(iii)) In a final rule published on May 16, 2016, DOE adopted reporting requirements for EPS manufacturers to provide the total number of exempt EPS units sold as service and spare parts for which the manufacturer is claiming exemption from the current standards. 81 FR 30157.

On April 30, 2015, Congress enacted the Energy Efficiency Improvement Act of 2015 (Pub. L. 114-11, “Energy Efficiency Improvement Act”). That law established definitions and energy conservation standards for grid-enabled water heaters that DOE promulgated in its August 2015 Final Rule. See 80 FR 48004 (Aug. 11, 2015). Additionally, the Energy Efficiency Improvement Act mandates DOE to require manufacturers of grid-enabled water heaters to report to DOE the total number of such units that are shipped annually. (42 U.S.C. 6295(e)(6)(C)(i)).

DOE currently requires manufacturers or their party representatives to prepare and submit certification reports and compliance statements using DOE's electronic Web-based tool, the Compliance and Certification Management System (CCMS), which is the primary mechanism for submitting certification reports to DOE. CCMS currently has product and equipment specific templates which manufacturers are required to use when submitting certification data to DOE. DOE believes the availability of electronic filing through the CCMS system reduces reporting burdens, streamlines the process, and provides the Department with needed information in a standardized, more accessible form. This electronic filing system also ensures that records are recorded in a permanent, systematic way.

Manufacturers also may rely on CCMS reporting to satisfy certain reporting requirements established by the FTC. EPCA directs the FTC generally to prescribe labeling rules for the consumer products subject to energy conservation standards under EPCA. (42 U.S.C. 6296) The required labels generally must disclose the estimated annual operating cost of such product (determined in accordance with Federal test procedures); and information respecting the range of estimated annual operating costs for covered products to which the rule applies. (42 U.S.C 6296(c)(1)) Pursuant to EPCA, the FTC prescribed the Energy Labeling Rule, which in part, requires manufacturers to attach yellow EnergyGuide labels to many of the covered consumer products. See 16 CFR part 305. EnergyGuide labels for most products subject to the FTC labeling requirement contain three key disclosures: Estimated annual energy cost (16 CFR 305.5); a product's energy consumption or energy efficiency rating as determined from DOE test procedures (Id.); and a comparability range displaying the highest and lowest energy costs or efficiency ratings for all similar models (16 CFR 305.10).

The Energy Labeling Rule also contains reporting requirements for most products, under which manufacturers must submit data to the FTC both when they begin manufacturing new models and on an annual basis thereafter. 16 CFR 305.8. These reports must contain, among other things, estimated annual energy consumption or energy efficiency ratings, similar to what is required under DOE's reporting requirement. Id. Prior to 2013, FTC collected energy data on products subject to the Energy Labeling Rule separate from DOE through paper and email submissions to the FTC. This arrangement required manufacturers to submit nearly duplicative reports to DOE and FTC.

However, in 2013 the FTC streamlined and harmonized its reporting requirements by giving manufacturers the option to report FTC-required data through DOE's CCMS, in lieu of the traditional practice of submitting directly to FTC. 78 FR 2200 (Jan. 10, 2013); 16 CFR 305.8(a)(1). As such, the CCMS reduces duplicative reporting for manufacturers of covered consumer products that are also required to report under the FTC Energy Label Rule.

DOE allows manufacturers of both consumer products and/or commercial equipment to apply for a test procedure waiver. Manufacturers may submit an application for a test procedure waiver at his or her discretion if it is determined that the basic model for which the petition for waiver was submitted contains one or more design characteristics that prevents testing of the basic model according to the prescribed test procedures, or if the prescribed test procedures may evaluate the basic model in a manner so unrepresentative of its true energy consumption characteristics as to provide materially inaccurate comparative data. The Department currently uses and will continue to use the information submitted in the application for a waiver as the basis for granting or denying the petition. See 10 CFR 430.27 for additional information on petitions for waivers and for consumer products. See 10 CFR 431.401 for additional information on petitions for waivers for commercial equipment.

DOE also allows manufacturers of both consumer products and/or commercial equipment to submit applications requesting an extension of the date by which representations must be made in accordance with any new or amended DOE test procedure. DOE may grant extensions of up to 180 days if it determines that making such representations would impose an undue hardship on the petitioner. The Department currently uses and will continue to use the information submitted in these applications as the basis for granting or denying the petition.

In addition to the FTC labeling requirements for consumer products discussed, EPCA directs DOE to establish labeling requirements for covered industrial and commercial equipment when specified criteria is met. If the Department has prescribed test procedures for any class of covered equipment, a labeling rule applicable to such class of covered equipment must be prescribed. (42 U.S.C. 6315(a)) EPCA, however, requires that certain criteria must be met prior to DOE prescribing a given labeling rule. Specifically, DOE must determine that: (1) Labeling is technologically and economically feasible with respect to any particular equipment class; (2) significant energy savings will likely result from such labeling; and (3) labeling is likely to assist consumers in making purchasing decisions. (42 U.S.C. 6315(h)) DOE has established labeling requirements under the authority in 42 U.S.C. 6315 for electric motors (10 CFR 431.31), walk-in coolers and freezers (10 CFR 431.305), and pumps (10 CFR 431.466).

(5) Annual Estimated Number of Respondents: 2,000;

(6) Annual Estimated Number of Total Responses: 20,000;

(7) Annual Estimated Number of Burden Hours: 773,060 (35 hours per certification, including the time for reviewing instructions, searching existing data sources, gathering and maintaining the data needed, and completing and reviewing the collection of information; 16 additional hours for creating supplement testing instructions for commercial HVAC, water heating, and refrigeration equipment manufacturers; 160 hours for test procedure waiver preparation; 160 hours for representation extension request preparation; 1 hour for creating and applying a label for walk-in cooler and freezer, commercial and industrial pump, and electric motor manufacturers);

(8) Annual Estimated Reporting and Recordkeeping Cost Burden: $77,306,000.

Statutory Authority

Section 326(d) of the Energy Policy and Conservation Act, Public Law 94-163, as amended (42 U.S.C. 6296); 10 CFR parts 429, 430, and 431.

Signing Authority

This document of the Department of Energy was signed on February 11, 2021, by Kelly Speaks-Backman, Acting Assistant Secretary for Energy Efficiency and Renewable Energy, pursuant to delegated authority from the Acting Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 11, 2021.
Treena V. Garrett,
Federal Register Liaison Officer, U.S. Department of Energy.

[FR Doc. 2021-03154 Filed 2-16-21; 8:45 am]

BILLING CODE 6450-01-P